DEPARTMENT OF DEFENSE

GENERAL SERVICES ADMINISTRATION

NATIONAL AERONAUTICS AND SPACE ADMINISTRATION

[OMB Control No. 9000-0069; Docket No. 2019-0003; Sequence No. 20]

Submission for OMB Review; Indirect Cost Rates, Predetermined Indirect Cost Rates, and Bankruptcy Notifications

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding indirect cost rates, predetermined indirect cost rates, and bankruptcy notifications.

DATES: Submit comments on or before September 9, 2019.

ADDRESSES: Submit comments regarding this burden estimate or any other aspect of this collection of information, including suggestions for reducing this burden to: Office of Information and Regulatory Affairs of OMB, Attention: Desk Officer for GSA, Room 10236, NEOB, Washington, DC 20503 or at Oira_submission@omb.eop.gov. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0069, Indirect Cost Rates, Predetermined Indirect Cost Rates, and Bankruptcy Notifications.

Instructions: All items submitted must cite Information Collection 9000-0069, Indirect Cost Rates, Predetermined Indirect Cost Rates, and Bankruptcy Notifications. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Zenaida Delgado, Procurement Analyst, at telephone 202-969-7207, or zenaida.delgado@gsa.gov.

SUPPLEMENTARY INFORMATION:

A. OMB Control Number, Title, and Any Associated Form(s)

9000-0069, Indirect Cost Rates, Predetermined Indirect Cost Rates, and Bankruptcy Notifications.

B. Needs and Uses

The Federal Acquisition Regulatory Council is in the process of combining OMB Control Numbers for the Federal Acquisition Regulation (FAR) by FAR part to the maximum practicable extent. This consolidation is expected to improve industry's ability to easily and efficiently identify all burdens associated with a given FAR part. The review of the information collections by FAR part allows improved oversight to ensure there is no redundant or unaccounted for burden placed on industry. Lastly, combining information collections in a given FAR part is also expected to reduce the administrative burden associated with processing multiple information collections.

This justification supports revision and extension of the expiration date of OMB Control No. 9000-0069 and combines it with the previously approved information collection OMB Control No. 9000-0108, with the new title “Indirect Cost Rates, Predetermined Indirect Cost Rates, and Bankruptcy Notifications”. Upon approval of this consolidated information collection, OMB Control No. 9000-0108 will be discontinued. The burden requirements previously approved under the discontinued Number will be covered under OMB Control No. 9000-0069.

This clearance covers the information that contractors must submit to comply with the following FAR requirements:

1. 52.216-7, Allowable Cost and Payment, paragraph (d), requires that final annual indirect cost rates and the appropriate bases shall be established in accordance with FAR subpart 42.7. These rates are used, in part, in cost reimbursement contracts, time and materials contracts (other than for commercial items and not for labor-hour contracts), and for certain types of fixed price contracts construction contracts. The clause requires the contractor to submit an adequate final indirect cost rate proposal to the contracting officer and the auditor within the 6-month period following the expiration of each of its fiscal years. The proposed rates shall be based on the contractor's actual cost experience for that period. This clause provides a list of the data required to be submitted. The data is customary business financial information that the contractor can access from its automated business systems.

2. 52.216-15, Predetermined Indirect Cost Rates, used in solicitations and contracts for a cost-reimbursement research and development contract with an educational institution and addresses how the allowable indirect costs under the contract shall be obtained by applying predetermined indirect costs to bases agreed by the parties. This clause repeats the requirement in FAR 52.216-7, paragraph (d), for the contractor to submit an adequate final indirect cost rate proposal, however it does not impose any additional reporting requirements.

3. 52.242-4, Certification of Final Indirect Costs, requires the contractor's proposal of final indirect cost rates to be certified to establish or modify the rates used to reimburse the contractor for the costs of performing under the contract. The supporting cost data are the cost accounting information normally prepared by organizations under sound management and accounting practices. This clause is incorporated into all solicitations and contracts, except for the Department of Energy Management and Operating contracts, that provide for establishment of final indirect cost rates.

4. 52.242-13, Bankruptcy. This clause requires contractors to notify the contracting officer within five days after initiating the proceedings relating to bankruptcy filing.

C. Annual Burden

Respondents: 6,145.

Total Annual Responses: 6,145.

Total Burden Hours: 1,578,868.

D. Public Comment

A 60-day notice was published in the Federal Register at 84 FR 25277, on May 31, 2019. No comments were received.

Obtaining Copies: Requesters may obtain a copy of the information collection documents from the General Services Administration, Regulatory Secretariat Division (MVCB), 1800 F Street NW, Washington, DC 20405, telephone 202-501-4755.

Please cite OMB Control No. 9000-0069, Indirect Cost Rates, Predetermined Indirect Cost Rates, and Bankruptcy Notifications, in all correspondence.

Janet Fry,
Director, Federal Acquisition Policy Division, Office of Governmentwide Acquisition Policy, Office of Acquisition Policy, Office of Governmentwide Policy.

[FR Doc. 2019-16975 Filed 8-7-19; 8:45 am]

BILLING CODE 6820-EP-P